DEPARTMENT OF COMMERCE

International Trade Administration

Georgia Institute of Technology, et al.; Notice of Consolidated Decision on Applications for Duty-Free Entry of Electron Microscopes

This is a decision consolidated pursuant to Section 6(c) of the Educational, Scientific, and Cultural Materials Importation Act of 1966 (Pub. L. 89-651, as amended by Public Law 106-36; 80 Stat. 897; 15 CFR part 301). Related records can be viewed between 8:30 a.m. and 5 p.m. in Room 3720, U.S. Department of Commerce, 14th and Constitution Avenue, NW., Washington, DC.

Docket Number: 10-061. Applicant: Georgia Institute of Technology, Atlanta, GA 30333-0245. Instrument: Electron Microscope. Manufacturer: FEI Company, the Netherlands. Intended Use: See notice at 75 FR 62763, October 13, 2010.

Docket Number: 10-062. Applicant: Washington State University, Pullman, WA 99164-1020. Instrument: Electron Microscope. Manufacturer: FEI Company, Czech Republic. Intended Use: See notice at 75 FR 62763, October 13, 2010.

Docket Number: 10-063. Applicant: National Institutes of Health, Bethesda, MD 20892-8025. Instrument: Electron Microscope. Manufacturer: JEOL Limited, Japan. Intended Use: See notice at 75 FR 62723, October 13, 2010.

Comments: None received. Decision: Approved. No instrument of equivalent scientific value to the foreign instrument, for such purposes as these instruments are intended to be used, was being manufactured in the United States at the time the instruments were ordered. Reasons: Each foreign instrument is an electron microscope and is intended for research or scientific educational uses requiring an electron microscope. We know of no electron microscope, or any other instrument suited to these purposes, which was being manufactured in the United States at the time of order of each instrument.

Dated: November 3, 2010.
Richard Herring,
Acting Director, Subsidies Enforcement Office, Import Administration.

[FR Doc. 2010-28416 Filed 11-9-10; 8:45 am]

BILLING CODE 3510-DS-P